DEPARTMENT OF THE INTERIOR

National Park Service

[NPS-WASO-NAGPRA-NPS0033210; PPWOCRADN0-PCU00RP14.R50000]

Notice of Intent To Repatriate Cultural Items: Nebraska State Historical Society DBA History Nebraska, Lincoln, NE

AGENCY: National Park Service, Interior.

ACTION: Notice.

SUMMARY: History Nebraska, in consultation with the appropriate Indian Tribes or Native Hawaiian organizations, has determined that the cultural items listed in this notice meet the definition of sacred objects. Lineal descendants or representatives of any Indian Tribe or Native Hawaiian organization not identified in this notice that wish to claim these cultural items should submit a written request to History Nebraska. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to History Nebraska at the address in this notice by February 9, 2022.

FOR FURTHER INFORMATION CONTACT: Trisha Nelson, History Nebraska, 1500 R Street, Lincoln, NE 68508-1651, telephone (402) 471-4760, email trisha.nelson@nebraska.gov.

SUPPLEMENTARY INFORMATION: Notice is here given in accordance with the Native American Graves Protection and Repatriation Act (NAGPRA), 25 U.S.C. 3005, of the intent to repatriate cultural items under the control of History Nebraska, Lincoln, NE, that meet the definition of sacred objects under 25 U.S.C. 3001.

This notice is published as part of the National Park Service's administrative responsibilities under NAGPRA, 25 U.S.C. 3003(d) (3). The determinations in this notice are the sole responsibility of the museum, institution, or Federal agency that has control of the Native American cultural items. The National Park Service is not responsible for the determinations in this notice.

History and Description of the Cultural Items

In 1939, a large collection of items known as the Zimmerman collection was donated to History Nebraska. Among the items are the three sacred objects listed in this notice. Initially, this collection was loaned by Mary R. Zimmerman to History Nebraska in 1934; it became a donation upon her death in 1939. From 1898 to 1928, Dr. Charles F. Zimmerman and his wife Mary “Mollie” Zimmerman operated a drug store in Naper, Nebraska. Mr. Zimmerman was also employed by the United States Government Indian Medical Service. Museum records indicate that Charles amassed a collection of Native American objects through purchases and gifts. The three sacred objects listed in this notice are one eagle feather hand fan (object id 4364-278), one two-piece pipestone pipe [object id 4364-273-(1-2)], and one pair of beaded leggings [object id 4364-276-(1-2)].

According to the Museum's donation records, the three items came from High Eagle, and is presumed to be Joseph High Eagle, the Oglala Sioux warrior, medicine man, and cousin of Crazy Horse. On October 14, 2021, Lilla Pearl Asmund requested the repatriation of the three items. She presented information to show that the items are sacred objects and that they had been owned by her great-grandfather, Joseph High Eagle. During consultation between History Nebraska and the Oglala Sioux Tribe, the Tribe corroborated the information provided to the Museum by Lilla Pearl Asmund.

Determinations Made by History Nebraska

Officials of History Nebraska have determined that:

• Pursuant to 25 U.S.C. 3001(3)(C), the three cultural items described above are specific ceremonial objects needed by traditional Native American religious leaders for the practice of traditional Native American religions by their present-day adherents; and

• Pursuant to 25 U.S.C. 3005(a)(5)(A) and 43 CFR 10.2(b)(1), Lilla Pearl Asmund is the direct lineal descendant of the individual who owned the sacred objects.

Additional Requestors and Disposition

Lineal descendants or representatives of any Indian Tribe or Native Hawaiian organization not identified in this notice that wish to claim these cultural items should submit a written request with information in support of the claim to Trisha Nelson, History Nebraska, 1500 R Street, Lincoln, NE 68508-1651, telephone (402) 471-4760, email trisha.nelson@nebraska.gov, by February 9, 2022. After that date, if no additional claimants have come forward, transfer of control of the sacred objects to Lilla Pearl Asmund may proceed.

History Nebraska is responsible for notifying Lilla Pearl Asmund and the Oglala Sioux Tribe [previously listed as Oglala Sioux Tribe of the Pine Ridge Reservation, South Dakota] that this notice has been published.

Dated: January 3, 2022.
Melanie O'Brien,
Manager, National NAGPRA Program.

[FR Doc. 2022-00225 Filed 1-7-22; 8:45 am]

BILLING CODE 4312-52-P